DEPARTMENT OF HOMELAND SECURITY

Coast Guard

[USCG-2004-17580]

Merchant Marine Personnel Advisory Committee

AGENCY: Coast Guard, DHS.

ACTION: Notice of committee renewal.

SUMMARY: The Secretary of the Department of Homeland Security has determined that the renewal of the Merchant Marine Personnel Advisory Committee (MERPAC) is necessary and in the public interest in connection with the performance of the duties of the Commandant of the U.S. Coast Guard. This determination follows consultation with the Committee Management Secretariat, General Services Administration. Accordingly, the Secretary has renewed the MERPAC charter.

DATES: The MERPAC charter was renewed on March 22, 2004.

FOR FURTHER INFORMATION CONTACT: Mr. Mark Gould, Assistant Executive Director of MERPAC at (202) 267-6890.

SUPPLEMENTARY INFORMATION: Name of Committee: The Merchant Marine Personnel Advisory Committee (MERPAC).

Purpose and Objectives: MERPAC is an advisory committee operating under the Federal Advisory Committee Act, 5 U.S.C. App. 2 (Pub. L. 92-463, 86 Stat. 770, as amended). The Committee advises the Secretary of the Department of Homeland Security and the Commandant of the Coast Guard on matters relating to the training, qualification, licensing, certification, and fitness of seamen serving in the U.S. merchant marine. This notice and the charter are available on the Internet by going to http://dms.dot.gov/search/searchFormSimple.cfm and inserting “17580.”

Balanced Membership Plans: The Committee consists of not more than 19 members as follows: nine active U.S. merchant mariners—including three deck officers, three engineering officers, two unlicensed seamen, and one pilot; six marine educators—including three from maritime academies and three from other maritime training institutions; two from shipping companies; and two from the general public.

Duration: Continuing.

Responsible DHS Official: Rear Admiral Thomas H. Gilmour, Commandant (G-M), U.S. Coast Guard, 2100 Second St., SW., Washington, DC 20593-0001. His telephone number is 202-267-2200.

Dated: April 16, 2004.
Joseph J. Angelo,
Director of Standards, Marine Safety, Security & Environmental Protection.

[FR Doc. 04-9201 Filed 4-22-04; 8:45 am]

BILLING CODE 4910-15-P